DEPARTMENT OF HOMELAND SECURITY

Federal Emergency Management Agency

44 CFR Part 65

[Docket No. FEMA-B-1015]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton, Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
California:
Fresno | Unincorporated areas of Fresno County, (07-09-1791P) | August 26, 2008; September 2, 2008; The Fresno Bee | The Honorable Henry Perea, Chairman, Fresno County Board of Supervisors, 2281 Tulare Street, Room 300, Fresno, CA 93721 | June 16, 2008 | 065029.
Sacramento | City of Folsom, (07-09-1657P) | September 17, 2008; September 24, 2008; The Folsom Telegraph | The Honorable Eric King, Mayor, City of Folsom, 50 Natoma Street, Folsom, CA 95630 | January 15, 2009 | 060263.
Colorado:
Douglas | Unincorporated areas of Douglas County, (08-08-0334P) | September 4, 2008; September 11, 2008; Douglas County News-Press | The Honorable Melanie A. Worley, Chair, Douglas County Board of Commissioners, 100 Third Street, Castle Rock, CO 80104 | January 9, 2009 | 080049.
Douglas | Unincorporated areas of Douglas County, (08-08-0607P) | September 4, 2008; September 11, 2008; Douglas County News-Press | The Honorable Melanie A. Worley, Chairman, Douglas County Board of Commissioners, 100 Third Street, Castle Rock, CO 80104 | August 21, 2008 | 080049.
Douglas | Town of Parker, (08-08-0334P) | September 4, 2008; September 11, 2008; Douglas County News-Press | The Honorable David Casiano, Mayor, Town of Parker, 20120 East Main Street, Parker, CO 80138-7334 | January 9, 2009 | 080310.
Illinois: Lake | City of Park City, (08-05-3860P) | September 26, 2008; October 2, 2008; Lake County News-Sun | The Honorable Steve Pannell, Mayor, City of Park City, 3420 Kehm Boulevard, Park City, IL 60085 | February 2, 2009 | 170386.
Maine: Lincoln | Town of Southport, (08-01-0451P) | September 18, 2008; September 25, 2008; Boothbay Register | The Honorable Gerald Gamage, First Selectman, Town of Southport, P.O. Box 149, Southport, ME 04576 | August 26, 2008 | 230221.
Massachusetts: Worcester | Town of Westborough, (08-01-0865P) | September 16, 2008; September 23, 2008; Worcester Telegram & Gazette | The Honorable George Thompson, Chairman, Town of Westborough Board of Selectmen, 34 West Main Street, Westborough, MA 01581 | September 26, 2008 | 250344.
Nevada: Clark | Unincorporated areas of Clark County, (07-09-0831P) | September 23, 2008; September 30, 2008; Las Vegas Review-Journal | The Honorable Rory Reid, Chair, Clark County Board of Commissioners, 500 South Grand Central Parkway, Las Vegas, NV 89106 | October 14, 2008 | 320003.
Ohio:
Franklin | Unincorporated areas of Franklin County, (08-05-0337P) | August 20, 2008; August 27, 2008; Hilliard News | The Honorable Mary Jo Kilroy, Commissioner, Franklin County, 373 South High Street, 26th Floor, Columbus, OH 43215 | August 4, 2008 | 390167.
Franklin | City of Hilliard, (08-05-0337P) | August 20, 2008; August 27, 2008; Hilliard News | The Honorable Donald J. Schonhardt, Mayor, City of Hilliard, 3800 Municipal Way, Hilliard, OH 43026 | August 4, 2008 | 390175.
South Carolina: Sumter | Unincorporated areas of Sumter County, (08-04-5092P) | September 10, 2008; September 17, 2008; The Item | The Honorable William T. Noonan, Sumter County Administrator, 13 East Canal Street, Sumter, SC 29150 | January 15, 2009 | 450182.
Texas:
Bexar | City of San Antonio, (07-06-0824P) | June 26, 2008; July 3, 2008; San Antonio Express News | The Honorable Phil Hardberger, Mayor, City of San Antonio, P.O. Box 839966, San Antonio, TX 78283 | June 19, 2008 | 480045.
Montgomery | Unincorporated areas of Montgomery County (07-06-0641P) | September 23, 2008; September 30, 2008; Conroe Courier | The Honorable Alan B. Sadler, Montgomery County Judge, 301 North Thompson Street, Suite 210, Conroe, TX 77301 | January 28, 2009 | 480483.
Montgomery | City of Panorama Village (07-06-0641P) | September 23, 2008; September 30, 2008; Conroe Courier | The Honorable Howard Kravetz, Mayor, City of Panorama Village, 98 Hiwon Drive, Panorama Village, TX 77304 | January 28, 2009 | 481263.

(Catalog of Federal Domestic Assistance No. 97.022, “Flood Insurance.”)

Dated: October 27, 2008.
Michael K. Buckley,
Acting Assistant Administrator, Mitigation Directorate, Department of Homeland Security, Federal Emergency Management Agency.

[FR Doc. E8-26305 Filed 11-4-08; 8:45 am]

BILLING CODE 9110-12-P